DEPARTMENT OF ENERGY

Federal Energy Regulatory Commission

[Docket No. TX96-2-006]

City of College Station, TX; Notice of Filing

June 25, 2002.

Take notice that on June 20, 2002, the Texas Municipal Power Agency (TMPA) and the City of Bryan Texas (Bryan) tendered for filing a Joint Application to Recover Regulatory Expenses from the City of College Station, Texas (College Station).

TMPA and Bryan (hereinafter the Applicants) state that they incurred regulatory expenses as a direct result of College Station's application dated December 15, 1995, for an order under Section 211 of the Federal Power Act (FPA) directing transmission services. The Applicants state that they are submitting this filing pursuant to Section 205 of the FPA and in accordance with the Commission's Final Order Establishing Rates, Terms and Conditions for Transmission Services, issued February 16,1999, in City of College Station, Texas, 86 FERC ¶ 61,165 (1999). The Applicants state that the Final Order makes clear that TMPA and Bryan can seek to recover from College Station reasonable regulatory expenses, including interest, associated with this proceeding.

TMPA and Bryan each attach a tariff sheet, which provides College Station the option of reimbursing the Applicants for the regulatory expenses through either a lump sum payment payable 30 days after the tariff sheets' effectiveness, or through thirty-six (36) equal monthly payments to be made over the three-year period following the effectiveness of the tariff sheets.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Comment Date: July 11, 2002.

Linwood A. Watson, Jr.,
Deputy Secretary.

[FR Doc. 02-16497 Filed 6-28-02; 8:45 am]

BILLING CODE 6717-01-P